DEPARTMENT OF AGRICULTURE

Forest Service

Information Collection; SRS Publications Evaluation Card

AGENCY: Forest Service, USDA.

ACTION: Notice; request for comment.

SUMMARY: In accordance with the Paperwork Reduction Act of 1995, the Forest Service is seeking comments from all interested individuals and organizations on the extension, with no revision, of a currently approved information collection, SRS Publications Evaluation Card.

DATES: Comments must be received in writing on or before August 6, 2010 to be assured of consideration. Comments received after that date will be considered to the extent practicable.

ADDRESSES: Comments concerning this notice should be addressed to Forest Service, USDA, Southern Research Station, Science Delivery Group, 200 W.T. Weaver Boulevard, Asheville, NC 28804-3454. Comments also may be submitted via e-mail to: lawilde@fs.fed.us.

The public may inspect comments received at 200 W.T. Weaver Boulevard, Asheville, NC 28804-3454, Room 319, during normal business hours. Visitors are encouraged to call ahead to 828-257-4391 to facilitate entry into the building. Additionally, the public may inspect comments received on the World Wide Web, at http://www.srs.fs.usda.gov/pubeval.

FOR FURTHER INFORMATION CONTACT: Louise Wilde, Science Delivery Group, 828-257-4389. Individuals who use telecommunication devices for the deaf (TDD) may call the Federal Relay Service (FRS) at 800-877-8339, between 8 a.m. and 8 p.m., Eastern Standard Time, Monday through Friday.

SUPPLEMENTARY INFORMATION: Title: SRS Publications Evaluation Card.

OMB Number: 0596-0163.

Expiration Date of Approval:12/31/10.

Type of Request: Extension with no revision.

Abstract: Executive Order 12862, issued September 11, 1993, directed Federal agencies to change the way they do business, to reform their management practices, and to provide service to the public that matches or exceeds the best service available in the private sector. In response to this Executive order, the Forest Service, Southern Research Station and Pacific Northwest Research Station, developed a Publications Evaluation Card for inclusion when distributing scientific research publications.

Since the early 1920s, the Forest Service scientists have published the results of their studies about national forests and forest resources and products, in addition to their conclusions about the dynamics of natural timber stands and plantations, watershed and wildlife management, and recreational activities. These studies have provided long-term data that have become increasingly valuable to landowners and others involved in natural resource and land management. Data from the Publications Evaluation Card help Forest Service research stations determine if publications meet customers' expectations and address customers' needs. The collected information also helps scientists and authors provide relevant information on effective, efficient, responsible land management. The Government Printing Office binds the cards into all general technical reports, research papers, research notes, resource bulletins, and other technical publications printed for the Forest Service.

Respondents complete comment cards and return them to the Forest Service in person, via surface mail, or using the Internet. Data gathered in this information collection are not available from other sources. The Forest Service's Science Delivery Group collects and analyzes the data, providing feedback to individual scientists and authors with the purpose of improving future products. Curtailing this information collection would deprive customers of a convenient mechanism for providing detailed and constructive criticism of research publications.

Estimate of Annual Burden: 4 minutes.

Type of Respondents: Individuals; businesses; landowners; non-profit organizations; local, State, and foreign governments.

Estimated Annual Number of Respondents: 72,000.

Estimated Annual Number of Responses per Respondent: 1.

Estimated Total Annual Burden on Respondents: 4,800 hours.

Comment is invited on: (1) Whether this collection of information is necessary for the stated purposes and the proper performance of the functions of the Agency, including whether the information will have practical or scientific utility; (2) the accuracy of the Agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including names and addresses when provided, will be a matter of public record. Comments will be summarized and included in the submission request toward Office of Management and Budget approval.

Dated: June 1, 2010.
Carlos Rodriguez-Franco,
Acting Deputy Chief, Research & Development.

[FR Doc. 2010-13538 Filed 6-4-10; 8:45 am]

BILLING CODE 3410-11-P